ENVIRONMENTAL PROTECTION AGENCY

40 CFR Part 63

[OAR-2002-0056; FRL-7921-5]

RIN 2060-AM96

Revision of December 2000 Regulatory Finding on the Emissions of Hazardous Air Pollutants From Electric Utility Steam Generating Units and the Removal of Coal- and Oil-Fired Electric Utility Steam Generating Units From the Section 112(c) List

AGENCY: Environmental Protection Agency (EPA).

ACTION: Final rule; correction.

SUMMARY: This action corrects and clarifies certain text of the final rule entitled “Revision of December 2000 Regulatory Finding on the Emissions of Hazardous Air Pollutants from Electric Utility Steam Generating Units and the Removal of Coal- and Oil-Fired Electric Utility Steam Generating Units From the Section 112(c) List.” The final rule was published in the Federal Register on March 29, 2005 (70 FR 15994) and contains two discrete regulatory actions: The reversal of the December 2000 finding based on EPA's conclusion that it is neither appropriate nor necessary to regulate coal- and oil-fired electric utility steam generating units (Utility Units) under section 112 of the Clean Air Act (CAA); and the removal of coal- and oil-fired Utility Units from the CAA section 112(c) list.

This document corrects certain explanatory text in the final rule published at 70 FR 15993. These corrections do not affect the substance of the two above-noted regulatory actions, nor do they change the rights or obligations of any party. Rather, this notice merely corrects certain explanatory text in support of EPA's actions. Thus, it is proper to issue this notice of final rule corrections without notice and comment. Section 553 of the Administrative Procedure Act (APA), 5 U.S.C. 553(b)(B), provides that, when an agency for good cause finds that notice and public procedure are impracticable, unnecessary, or contrary to the public interest, the agency may issue a rule without providing notice and an opportunity for public comment. We have determined that there is good cause for making today's action final without prior proposal and opportunity for comment because the changes to the rule are minor technical corrections, are noncontroversial, and do not substantively change the agency actions taken in the final rule. Thus, notice and public procedure are unnecessary. We find that this constitutes good cause under 5 U.S.C. 553(b)(B).

DATES: Effective Date: June 7, 2005.

FOR FURTHER INFORMATION CONTACT: Ms. Carol Holmes, OGC Attorney, Office of General Counsel, EPA, (AR-2344), Washington, DC 20460, telephone number: (202) 564-8709; fax number: (202) 564-5603; e-mail address: holmes.carol@epa.gov.

SUPPLEMENTARY INFORMATION:

I. Background

On March 15, 2005 (70 FR 15994), EPA issued a final rule in which EPA revised the regulatory finding issued on December 15, 2000, pursuant to CAA section 112(n)(1)(A), and concluded that it is neither appropriate nor necessary to regulate coal- and oil-fired Utility Units under CAA section 112. Based on this revised finding, EPA removed coal- and oil-fired Utility Units from the CAA section 112(c) list.

II. Correction to Regulatory Finding Final Rule (70 FR 15994-16035)

This notice corrects certain explanatory text, which is the text in the final rule that supports the two above-noted regulatory actions. The corrections can be categorized generally as follows: (a) Insertion of citations inadvertently omitted from the text; (b) correction of typographical errors; (c) clarification of confusing explanatory text; and (d) correction of incorrect factual statements.

Below, we identify each technical correction to the explanatory text at 70 FR 15994-16035 and provide a brief explanation for the corrections. Specifically, 70 FR 15994-16035 is corrected, as follows:

(1) On page 16012, column 1, in the second full paragraph, after the second sentence, add the following citation: See Centers for Disease Control, Blood Mercury Levels in Young Children and Childbearing-Aged Women—United States, 1999-2002, MMWR Morb Mortal Wkly Rep. 2004 Nov 5; 53(43):1018-1020. http://www.cdc.gov/mmwr/preview/mmwrhtml/mm5343a5.htm.

We are adding the above citation because the explanatory text on page 16012 of the final rule summarizes the Center for Disease Control report, but inadvertently fails to include the citation to that report.

(2) On page 16024, column 3, in the second full paragraph, after the second sentence, add the following: http://www.epa.gov/ttn/atw/nata/gloss1.html#hazardquotient.

This revision adds an inadvertently omitted citation for the text quoted in the noted paragraph.

(3) On page 16012, column 1, in the second full paragraph, change the fourth sentence to read as follows:

“The analysis of the first 1,500 of these women, which was based on 1999-2000 data, showed that Hg blood levels were higher in the women who reported eating three or more servings of fish in the month before they were tested.”

We are revising this sentence because the original sentence in the preamble is confusing as to the number of women studied and the years of data examined in the study. This revision clarifies that the analysis of 1,500 women concerned only the first part of a larger study of 3,600 women and was based on 1999-2000 data.

(4) On page 16024, column 1, in the first full paragraph, in the second sentence, insert the phrase “having utility-attributable exposures” before the word “exceeding.”

This clarification is necessary to make clear that the statement is limited to utility-attributable mercury exposures. As noted throughout the March 29, 2005 final rule, EPA's analysis pursuant to CAA section 112(n)(1)(A) focused on utility-attributable mercury exposures. (See 70 FR 15998, 16022.)

(5) On page 16024, column 3, in the last paragraph that begins on that page, in the second sentence, add the phrase “to utility-attributable methylmercury” before the word “above.”

This clarification is necessary to make clear that the statement is limited to utility-attributable mercury exposures. See explanation provided in item 4 above.

(6) At the following locations, delete the word “anglers” or “angler” and insert in lieu thereof “fishers” or “fisher” respectively:

(i) On page 16012, column 1, in the last paragraph, in the first sentence;

(ii) On page 16022, column 1, in the first full paragraph, in the last sentence;

(iii) On page 16023, column 3, in the second full paragraph, in both places;

(iv) On page 16024, column 1, in the carryover paragraph from page 16023, in the second full sentence;

(v) On page 16024, in the first full paragraph, in all three places that it appears;

(vi) On page 16024, column 2, in the first full paragraph, in the last sentence;

(vii) On page 16024, column 2, in the second full paragraph, in the first sentence; and

(viii) On page 16024, column 3, in the last paragraph that begins on that page, in the second sentence.

The term “fishers” is appropriate because it includes anglers, who are individuals who catch fish with a pole or rod, as well as persons who catch fish in other ways. Our conclusions in the final rule were based on information concerning fishers, not anglers; thus, all references to “anglers” or “angler” should be to “fishers” or “fisher,” respectively.

(7) On page 16022, column 3, in the carryover paragraph from column 2, delete the number “292.8” and insert in lieu thereof the number “394.”

The sentence at issue here summarizes a study by the Great Lakes Indian Fish and Wildlife Commission. The sentence incorrectly summarizes one of the figures cited in that study. The above-noted change rectifies this inadvertent error and correctly reflects the number in the study.

(8) On page 16023, column 3, in the carryover paragraph from column 2, in the first full sentence, delete the word “commercial” and insert in lieu thereof “marine.”

This revision corrects the erroneous use in this sentence of the term “commercial'—which refers to purchased marine, freshwater, and estuarine fish—by replacing it with the term “marine,” which refers to ocean fish, whether commercially obtained or self-caught. The water quality criterion discussed in this paragraph was based on possible exposure to methylmercury through the consumption of marine, not commercial, fish, as described in more detail on page 16014, column 3, in the second full paragraph.

(9) On page 16023, column 3, in the second full paragraph, in the second sentence, insert the phrase “at or” before the word “below” in both places.

This revision corrects an arithmetic error.

(10) On page 16024, column 2, in the second full paragraph, in the second sentence, delete the number “293” and insert in lieu thereof the number “394.”

This revision corrects an error in the summary of the public comments to accurately reflect the data provided by the commenters.

(11) On page 15999, footnote 14, in the second sentence, insert the word “not” before the word “adequate” The corrected sentence should read: “Section 112(m)(6) also requires EPA to promulgate additional regulations setting emission standards or control requirements, “in accordance with” section 112 and under the authority of section 112(m)(6), if EPA determines that the other provisions of section 112 are not adequate, and such regulations are appropriate and necessary to prevent serious adverse public health and environmental effects.”

This change corrects a typographical error. The word “not” was inadvertently omitted from the sentence and without that term, the sentence improperly summarizes CAA section 112(m)(6), which requires EPA to first determine if the other provisions of CAA section 112 are “adequate to prevent serious adverse effects to public health and serious or widespread environmental effects,” and then make an assessment based on that determination whether additional standards or control requirements are “necessary and appropriate.” (42 U.S.C. 7412(m)(6).”

(12) On page 16009, renumber sections “3.” and “4.” as sections “2.” and “3.,” respectively.

This revision corrects a typographical error, as the sections were improperly numbered.

(13) On page 16010, renumber section “C.” as section “B.”

See explanation provided in item 12, above.

(14) On page 16021, renumber section “5.” as section “3.”

See explanation provided in item 12, above.

(15) On page 16024, column 2, last paragraph, first sentence, delete the reference “VII.B.,” and insert in lieu thereof the reference “VI.B.”

This correction accurately cites the appropriate cross-reference.

(16) On page 16026, column 2, first full paragraph, delete the references “VII.D.” and “VII.E.,” and insert in lieu thereof the references “VI.D.” and “VI.E.,” respectively.

See explanation provided in item 15, above.

(17) On page 16027, column 3, first full paragraph, delete the reference “VII.E.,” and insert in lieu thereof the reference “VI.E.”

See explanation provided in item 15, above.

III. Statutory and Executive Order Reviews

Under Executive Order 12866, Regulatory Planning and Review (58 FR 51735, October 4, 1993), this action is not a “significant regulatory action” and is therefore not subject to review by the Office of Management and Budget (OMB). This action is not a “major rule” as defined by 5 U.S.C. 804(2). The technical corrections do not impose an information collection burden under the provisions of the Paperwork Reduction Act of 1995 (44 U.S.C. 3501 et seq.).

Because EPA has made a “good cause” finding that this action is not subject to notice and comment requirements under the APA or any other statute, it is not subject to the regulatory flexibility provisions of the Regulatory Flexibility Act (5 U.S.C. 601 et seq.), or to sections 202 and 205 of the Unfunded Mandates Reform Act of 1995 (UMRA) (Public Law 104-4). In addition, this action does not significantly or uniquely affect small governments or impose a significant intergovernmental mandate, as described in sections 203 and 204 of the UMRA.

The corrections do not have substantial direct effects on the States, or on the relationship between the national government and the States, or on the distribution of power and responsibilities among the various levels of government, as specified in Executive Order 13132, Federalism (64 FR 43255, August 10, 1999).

Today's action also does not significantly or uniquely affect the communities of tribal governments, as specified by Executive Order 13175, Consultation and Coordination with Indian Tribal Governments (65 FR 67249, November 9, 2000). The technical corrections also are not subject to Executive Order 13045, Protection of Children from Environmental Health and Safety Risks (62 FR 19885, April 23, 1997) because this action is not economically significant.

The corrections are not subject to Executive Order 13211, Actions Concerning Regulations That Significantly Affect Energy Supply, Distribution, or Use (66 FR 28355, May 22, 2001) because this action is not a significant regulatory action under Executive Order 12866.

The corrections do not involve changes to the technical standards related to test methods or monitoring methods; thus, the requirements of section 12(d) of the National Technology Transfer and Advancement Act of 1995 (15 U.S.C. 272) do not apply.

The corrections also do not involve special consideration of environmental justice-related issues as required by Executive Order 12898, Federal Actions to Address Environmental Justice in Minority Populations and Low-Income Populations (59 FR 7629, February 16, 1994).

The Congressional Review Act, 5 U.S.C. 801 et seq., as added by the Small Business Regulatory Enforcement Fairness Act of 1996 (SBREFA), generally provides that before a rule may take effect, the agency promulgating the rule must submit a rule report, which includes a copy of the rule, to each House of the Congress and to the Comptroller General of the U.S. The EPA will submit a report containing this final action and other required information to the U.S. Senate, the U.S. House of Representatives, and the Comptroller General of the U.S. prior to publication of today's action in the Federal Register. Today's action is not a “major rule” as defined by 5 U.S.C. 804(2). The final rule will be effective on June 7, 2005.

The EPA's compliance with the above statutes and Executive Orders for the underlying rule is discussed in the March 29, 2005 Federal Register notice containing “EPA's revision to the December 2000 Regulatory Finding on the Emissions of Hazardous Air Pollutants from Electric Utility Steam Generating Units and the Removal of Coal- and Oil-Fired Electric Utility Steam Generating Units From the Section 112(c) List” (70 FR 15994).

Dated: June 1, 2005.
Jeffrey R. Holmstead,
Assistant Administrator, Office of Air and Radiation.

[FR Doc. 05-11273 Filed 6-6-05; 8:45 am]

BILLING CODE 6560-50-P